DEPARTMENT OF COMMERCE

National Oceanic and Atmospheric Administration

RIN 0648-XD787

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its American Samoa, Hawaii, and Mariana Archipelago Fishery Ecosystem Plan (FEP) Advisory Panels (AP) by teleconference and webconference to discuss and make recommendations on fishery management issues in the Western Pacific Region.

DATES: The Mariana Archipelago FEP AP will meet on March 10, 2015, between 5 p.m. and 7 p.m.; The Hawaii Archipelago FEP AP will meet on March 12, 2015, between 4 p.m. and 6 p.m.; and The American Samoa Archipelago FEP AP will meet on March 13, 2014, between 4 p.m. and 6 p.m. All times listed are local island times.

Location: All meetings will be held by teleconference and webconference. For specific times and agendas, see SUPPLEMENTARY INFORMATION.

ADDRESSES: The teleconference will be conducted by telephone and by web. The teleconference numbers are: U.S. toll-free: 1-888-482-3560 or International Access: +1 647 723-3959, and Access Code: 5228220. The webconference can be accessed at https://wprfmc.webex.com/join/info.wpcouncilnoaa.gov.

FOR FURTHER INFORMATION CONTACT: Kitty M. Simonds, Executive Director; telephone: (808) 522-8220.

SUPPLEMENTARY INFORMATION: Public comment periods will be provided throughout the agendas. The order in which agenda items are addressed may change. The meetings will run as late as necessary to complete scheduled business.

Schedule and Agenda for the Mariana Archipelago FEP AP Meeting

5 p.m.-7 p.m., Tuesday, March 10, 2015

1. Welcome and Introductions

2. Review and Approval of the Agenda

3. New Advisory Panel Structure and Process

4. Meeting Expectations and Overview

5. Issues to be discusseed at 162nd Council Meeting

A. Council Action Items

i. Recommendations on Territory Longline Bigeye Specification

ii. Report on FEP Review

B. Issues Relevant to the FEP AP

i. Update on Data Collection Projects

ii. Update on Community Activities

iii. Education and Outreach Initiatives

6. Mariana Archipelago FEP AP Issues

A. Island Fisheries Subpanel

B. Pelagic Fisheries Subpanel

C. Ecosystems and Habitat Subpanel

D. Indigenous Fishing Rights Subpanel

7. Public Comment

8. Discussion of Solutions to Issues

9. Recommendations to the Council

10. Other Business

Schedule and Agenda for the Hawaii Archipelago FEP AP

4 p.m.-6 p.m., Thursday, March 12, 2015

1. Welcome and Introductions

2. Review and Approval of the Agenda

3. New Advisory Panel Structure and Process

4. Meeting Expectations and Overview

5. Issues to be discussed at 162nd Council Meeting

A. Council Action Items

i. Recommendations on Territory Longline Bigeye Specification

ii. Report on FEP Review

B. Issues Relevant to the FEP AP

i. Report on Main Hawaiian Islands (MHI) Bottomfish Public Scoping Meetings

ii. Report on MHI Ahi (Yellowfin Tuna) Public Scoping Meetings

iii. Update on Community Projects

iv. Education and Outreach Initiatives

6. Hawaii Archipelago FEP AP Issues

A. Island Fisheries Subpanel

B. Pelagic Fisheries Subpanel

C. Ecosystems and Habitat Subpanel

D. Indigenous Fishing Rights Subpanel

7. Public Comment

8. Discussion of Solutions to Issues

9. Recommendations to the Council

10. Other Business

Schedule and Agenda for the American Samoa Archipelago FEP AP Meeting

4 p.m.-6 p.m., March 13, 2016

1. Welcome and Introductions

2. Review and Approval of the Agenda

3. New Advisory Panel Structure and Process

4. Meeting Expectations and Overview

5. Issues to be Discussed at 162nd Council Meeting

A. Council Action Items

i. Recommendations on the American Samoa Large Vessel Prohibited Area Temporary Exemption

ii. Recommendations on American Samoa Longline EEZ Albacore Catch Limit

iii. Recommendations on Territory Longline Bigeye Specification

iv. Report on FEP Review

B. Issues Relevant to the FEP AP

i. Update on Data Collection Projects

ii. Update on Fisheries Development Projects

iii. Education and Outreach Initiatives

6. American Samoa Archipelago FEP AP Issues

A. Island Fisheries Subpanel

B. Pelagic Fisheries Subpanel

C. Ecosystems and Habitat Subpanel

D. Indigenous Fishing Rights Subpanel

7. Public Comment

8. Discussion of Solutions to Issues

9. Recommendations to the Council

10. Other Business

Non-Emergency issues not contained in this agenda may come before the Council for discussion and formal Council action during its 161st meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 19, 2015.
Tracey L. Thompson,
Acting Deputy Director, Office of Sustainable Fisheries, National Marine Fisheries Service.

[FR Doc. 2015-03715 Filed 2-23-15; 8:45 am]

BILLING CODE 3510-22-P